DEPARTMENT OF HOMELAND SECURITY

Coast Guard

[Docket No. USCG-2018-1085]

RIN 1625-AA09

Notice of Availability of Final Environmental Assessment and Finding of No Significant Impact for the Proposed Construction of Railroad Bridges Across Sand Creek and Lake Pend Oreille at Sandpoint, Bonner County, Idaho

AGENCY: Coast Guard, DHS.

ACTION: Notice of availability.

SUMMARY: The United States Coast Guard (USCG) announces the availability of a Final Environmental Assessment (FEA) and Finding of No Significant Impact (FONSI) in accordance with National Environmental Policy Act of 1969 (NEPA), as amended (42 U.S.C. 4321 et seq.) and the National Historic Preservation Act (NHPA), as amended (16 U.S.C. 470 et seq.) for the proposed construction of railroad bridges across Lake Pend Oreille and Sand Creek at Sandpoint, Bonner County, Idaho. The proposed bridges will be built parallel to existing railroad bridges crossing the same waterbodies. As structures over navigable waters of the United States, the proposed bridges require a Coast Guard Bridge Permit. This notice provides information on where to view the FEA and FONSI. There is no comment period associated with this notice.

ADDRESSES: We have uploaded the FEA and FONSI to our online docket at http://www.regulations.gov. Additionally, the East Bonner County Library at 1407 Cedar Street, Sandpoint, Idaho, 83864 will maintain printed copies of the FEA and FONSI for public review. The documents will be available for inspection at this location between 9 a.m. and 7 p.m. Monday through Thursday and 10 a.m. and 5 p.m. Friday and Saturday, except Sundays and Federal holidays. The Thirteenth Coast Guard District Bridge Office at 915 2nd Avenue, Seattle, WA 98174-1067 will also maintain printed copies of the FEA and FONSI for public review. The documents will be available for inspection at this location between 8 a.m. and 4 p.m., Monday through Friday, except Federal holidays.

FOR FURTHER INFORMATION CONTACT: If you have questions about this notice please contact Mr. Steven Fischer, District Bridge Manager, Thirteenth Coast Guard District, U.S. Coast Guard; telephone 206-220-7282.

SUPPLEMENTARY INFORMATION:

I. Authority

The FEA and FONSI have been prepared in accordance with the National Environmental Policy Act (NEPA) (42 U.S.C. 4321 et seq.); Council on Environmental Quality (CEQ) Regulations for Implementing NEPA (40 CFR 1500-1508) and associated CEQ guidelines: Department of Homeland Security Directive 5100.1, National Environmental Policy Act Implementing Procedures and Policy for Considering Environmental Impacts.

II. Viewing the FEA and FONSI

To view the FEA and FONSI, please visit http://www.regulations.gov, enter “USCG-2018-1085” in the search field, press “Enter,” and then select the “Open Docket Folder” option. The FEA and FONSI are also available for public review at the East Bonner County Library at 1407 Cedar Street, Sandpoint, Idaho, 83864, between 9 a.m. and 7 p.m. Monday through Thursday and 10 a.m. and 5 p.m. Friday and Saturday, except Sundays and Federal holidays. The Thirteenth Coast Guard District Bridge Office at 915 2nd Avenue, Seattle, WA 98174-1067 will also maintain printed copies of the FEA and FONSI for public review. The documents will be available for inspection at this location between 8 a.m. and 4 p.m., Monday through Friday, except Federal holidays.

III. Privacy Act

Anyone can search the electronic form of comments received into any of our dockets by the name of the individual submitting the comment (or signing the comment, if submitted on behalf of an association, business, labor union, etc.). You may review a Privacy Act system of records notice regarding our public dockets in the January 17, 2008 issue of the Federal Register (73 FR 3316).

IV. Background and Purpose

The BNSF Railway Company (BNSF) has proposed to construct a second mainline track and associated bridges across Lake Pend Oreille and Sand Creek parallel to existing BNSF railroad track and bridges in and around Sandpoint, Bonner County, Idaho (Project). The present single-track configuration has become a constraint to efficient rail movement, resulting in congestion on the BNSF main line, rail yards and sidings as trains await clearance to cross the existing single-track bridges. Moreover, trains awaiting an opportunity to cross the bridges often block vehicular traffic at both public and private at-grade rail crossings. The delays attributable to this congestion hinder the timely transport and delivery of people, goods and services to local and regional destinations. This Project is intended to relieve this congestion and enable more efficient movement of trains through the Lake Pend Oreille region. The capacity of the rail line through Sandpoint and across Lake Pend Oreille is approximately 79 trains per day while the current average rail traffic volume on that line segment is approximately 60 trains per day. Adding a second main line track along this segment would not increase capacity of the rail line because there are other constraints outside of the Lake Pend Oreille area.

Alternatives considered for the Project include a “No Action Alternative” that simply preserves the status quo and a Proposed Action Alternative that satisfies the purpose and need of the Project. Several additional alternatives including (a) a second main line track placed east of the existing main track line, (b) alternate routes and (c) shifting rail traffic to other railroads were considered and dismissed based on infeasibility or impracticability.

The federal bridge statutes, including the River and Harbors Act of 1899, as amended, the Act of March 23, 1906, as amended, and the General Bridge Act of 1946 (33 U.S.C. 525 et seq.), require that the location and plans for bridges in or over navigable waters of the United States be approved by the Secretary of Homeland Security, who has delegated that responsibility to the Coast Guard. Lake Pend Oreille and Sand Creek are navigable waters of the U.S. as defined in 33 CFR 2.36(a). In exercising these bridge authorities, the Coast Guard considers navigational and environmental impacts, which include historic and tribal effects. The Coast Guard's primary responsibility regarding BNSF's proposed railroad bridges is to ensure these structures do not unreasonably obstruct navigation.

Because the intent of the bridge statutes is to preserve navigation, the Coast Guard's permit authority is limited to the bridge and its essential components including approaches and abutments. Consequently, the Coast Guard does not have the authority to approve or disapprove broader aspects of a project beyond the bridges themselves. For example, if a project sponsor proposes to build a new highway or rail line and the project includes a bridge, the Coast Guard's permit authority is limited to the bridge and its effect upon navigation, but does not extend to the connecting highway or rail line.

As lead federal agency for this Project, the Coast Guard is responsible for the review of its potential effects on the human environment, including historic properties and tribal impacts, pursuant to NEPA and the NHPA. The Coast Guard is therefore required by law to ensure potential environmental effects are carefully evaluated in each bridge permitting decision.

• On July 13, 2018, as part of this evaluation process, the Coast Guard solicited comments from State and Federal agencies with expertise in, and authority over, particular resources that may be impacted by the project. Additionally, the Coast Guard sought input from all tribes that may be affected or otherwise have expertise or equities in the Project. Following tribal and expert agency outreach, the Coast Guard revised its evaluation, and then sought comments from the general public. Agencies that have participated in the environmental review of this Project include the U.S. Army Corps of Engineers (USACE), the U.S. Fish and Wildlife Service (USFWS), the U.S. Environmental Protection Agency (EPA), Idaho Department of Lands (IDL) and the Idaho Department of Environmental Quality (IDEQ).

On February 6, 2019, the USCG issued a notice in the Federal Register announcing the availability of a Draft Environmental Assessment for public review and comment (FR USCG-2018-1085). The Coast Guard then held Public Meetings in Ponderay, Idaho on March 13, 2019. During the comment period, the USCG received comments in favor of and opposed to the Project. The comments in favor of the Project generally spoke to economic benefits and requests to expedite the environmental review and issue required permits. The comments in opposition to the Project identified a variety of concerns including, but not limited to, (a) requests to elevate the level of federal environmental review to an Environmental Impact Statement (EIS); (b) concern regarding derailments within the Lake Pend Oreille region and preparedness for response to a derailment causing a spill of coal or petroleum products; (c) fugitive coal dust emissions and the effects upon air and water quality; and (d) the potential for increased rail traffic through the Lake Pend Oreille rail corridor.

With regard to derailments, the Federal Railroad Administration accident statistics and additional detail regarding BNSF's plan to prevent derailments has been added to Section 3.14 (Hazardous Materials and Wastes) to better characterize derailment risk. Additional details regarding spill response planning for different types of spills under various weather conditions have been added to Section 3.14. In addition, the Lake Pend Oreille Geographic Response Plan, which is to be implemented in the event of a rail accident, is included in Appendix N of the Final EA.

With regard to fugitive coal dust emissions and the effects upon air and water quality, Section 3.1 of the Final EA explains that the current use of load profiling and dust suppressants has been shown to achieve at least an 85 percent reduction in fugitive coal dust and allow only trace amounts to be lost during transit, which are well below levels that could be harmful to human or ecological health. Section 3.1 also references several NEPA documents from the U.S. Army Corps of Engineers and the Surface Transportation Board supporting this determination.

With regard to concern for increased rail traffic through the Lake Pend Oreille rail corridor, the maximum capacity of the rail line through Sandpoint and across Lake Pend Oreille is approximately 79 trains per day while the current average rail traffic volume on that line segment is approximately 60 trains per day. This Project does not add any origin or destination facilities; therefore, it would not induce increases or decreases in rail traffic, but rather is designed to increase efficiency of rail current rail transportation. The market conditions influencing rail train traffic growth in the study area exist with or without construction of a second main line track and associated bridges. Adding a second main line track along this segment would not increase overall capacity of the rail line because there are other constraints on the main lines leading into the Sandpoint and Lake Pend Oreille area.

Based on the information examined through the study of this Project, the USCG has determined that an Environmental Assessment is the appropriate level of environmental documentation. The USCG has determined that there are no significant impacts associated with the Project and has issued a Finding of No Significant Impact.

This notice is being provided for information purposes only, and as such, there is no public comment period associated with this notice.

This notice is issued under the authority of 5 U.S.C. 552(a).

Dated: August 29, 2019.
Brian L. Dunn,
Chief, Office of Bridge Programs, U.S. Coast Guard.

[FR Doc. 2019-19120 Filed 9-4-19; 8:45 am]

BILLING CODE 9110-04-P